ENVIRONMENTAL PROTECTION AGENCY

40 CFR Parts 50 and 58

[EPA-HQ-OAR-2005-0172; FRL-9102-3]

RIN 2060-AP98

Public Hearings for Reconsideration of the 2008 National Ambient Air Quality Standards for Ozone

AGENCY: Environmental Protection Agency (EPA).

ACTION: Announcement of public hearings.

SUMMARY: The EPA is announcing three public hearings to be held for the proposed rule, “Reconsideration of the 2008 National Ambient Air Quality Standards for Ozone,” which was signed on January 6, 2010, and will be published in an upcoming Federal Register. The hearings will be held concurrently in Arlington, Virginia, and Houston, Texas, on Tuesday, February 2, 2010, and in Sacramento, California, on Thursday, February 4, 2010.

In the proposed rule, EPA proposes to set different primary and secondary standards than those set in 2008 to provide requisite protection of public health and welfare, respectively.

DATES: The public hearings will be held on February 2, 2010, and February 4, 2010.

Please refer to SUPPLEMENTARY INFORMATION for additional information on the public hearings.

ADDRESSES: The hearings will be held at the following locations:

Arlington: Tuesday, February 2, 2010. Hyatt Regency Crystal City @ Reagan National Airport, Washington Room (located on the Ballroom Level), 2799 Jefferson Davis Highway, Arlington, Virginia 22202. Telephone: 703-418-1234.

Houston: Tuesday, February 2, 2010. Hilton Houston Hobby Airport, Moody Ballroom (located on the ground floor), 8181 Airport Boulevard, Houston, Texas 77061. Telephone: 713-645-3000.

Sacramento: Thursday, February 4, 2010. Four Points by Sheraton Sacramento International Airport, Natomas Ballroom, 4900 Duckhorn Drive, Sacramento, California 95834. Telephone: 916-263-9000.

Written comments on this proposed rule may also be submitted to EPA electronically, by mail, by facsimile, or through hand delivery/courier. Please refer to the notice of proposed rulemaking to be published in an upcoming Federal Register and also available now at the following Web site:

http://www.epa.gov/ttn/naaqs/standards/ozone/s_o3_cr_fr.html for the addresses and detailed instructions for submitting written comments.

A complete set of documents related to the proposal is available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

The EPA Web site for the rulemaking, which includes the proposal and information about the public hearings, can be found at: http://www.epa.gov/ttn/naaqs/standards/ozone/s_o3_cr_fr.html.

FOR FURTHER INFORMATION CONTACT: If you would like to speak at the public hearings or have questions concerning the public hearings, please contact Ms. Tricia Crabtree at the address given below under SUPPLEMENTARY INFORMATION.

Questions concerning the “Reconsideration of the 2008 National Ambient Air Quality Standards for Ozone” proposed rule should be addressed to Ms. Susan Lyon Stone, U.S. EPA, Office of Air Quality Planning and Standards, Health and Environmental Impacts Division, (C504-06), Research Triangle Park, NC 27711, telephone: (919) 541-1146, e-mail: stone.susan@epa.gov.

SUPPLEMENTARY INFORMATION: The proposal for which EPA is holding the public hearings will be published in an upcoming Federal Register. The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be postmarked by the last day of the comment period, as specified in the proposal.

The three public hearings will be held concurrently in Arlington, Virginia, and Houston, Texas, on February 2, 2010, and in Sacramento, California, on February 4, 2010. The public hearings will begin each day at 9:30 a.m. and continue until 7:30 p.m. (local time) or later, if necessary, depending on the number of speakers wishing to participate. The EPA will make every effort to accommodate all speakers that arrive and register before 7:30 p.m. The EPA is scheduling a lunch break from 12:30 until 2 p.m. If you would like to present oral testimony at the hearings, please notify Ms. Tricia Crabtree, (C504-02) U.S. Environmental Protection Agency, Research Triangle Park, NC 27711, e-mail (preferred method for registering): crabtree.tricia@epa.gov; telephone: (919) 541-5688. She will arrange a general time slot for you to speak. The EPA will make every effort to follow the schedule as closely as possible on the day of the hearings.

Oral testimony will be limited to five (5) minutes for each commenter to address the proposal. We will not be providing equipment for commenters to show overhead slides or make computerized slide presentations unless we receive special requests in advance. Commenters should notify Ms. Crabtree if they will need specific audiovisual (AV) equipment. Commenters should also notify Ms. Crabtree if they need specific translation services for non-English speaking commenters. The EPA encourages commenters to provide written versions of their oral testimonies either electronically on computer disk or CD-ROM or in paper copy.

The hearing schedules, including lists of speakers, will be posted on EPA's Web site for the proposal at http://www.epa.gov/ttn/naaqs/standards/ozone/s_o3_cr_fr.html prior to the hearings. Verbatim transcripts of the hearings and written statements will be included in the rulemaking docket.

How Can I Get Copies of This Document and Other Related Information?

The EPA has established the official public docket for the “Reconsideration of the 2008 National Ambient Air Quality Standards for Ozone” under Docket Number EPA-HQ-OAR-2005-0172. The EPA has also developed a Web site for the proposal at the address given above. Please refer to the proposal, published in an upcoming Federal Register for detailed information on accessing information related to the proposal.

Dated: January 4, 2010.
Jennifer Noonan Edmonds,
Acting Director, Office of Air Quality Planning and Standards.

[FR Doc. 2010-351 Filed 1-11-10; 8:45 am]

BILLING CODE 6560-50-P